DEPARTMENT OF TRANSPORTATION

Federal Aviation Administration

14 CFR Part 39

[Docket No. FAA-2014-0292; Directorate Identifier 2014-CE-011-AD; Amendment 39-18001; AD 2014-15-02 R1]

RIN 2120-AA64

Airworthiness Directives; Fiberglas-Technik Rudolf Lindner GmbH & Co. KG Gliders

AGENCY: Federal Aviation Administration (FAA), DOT.

ACTION: Final rule; request for comments.

SUMMARY: We are adopting a new airworthiness directive (AD) for Fiberglas-Technik Rudolf Lindner GmbH & Co. KG (type certificates formerly held by GROB-WERKE GMBH & CO KG and BURKHART GROB LUFT- UND RAUMFAHRT GmbH & CO KG) Models G102 STANDARD ASTIR III, G102 CLUB ASTIR III, G102 CLUB ASTIR IIIb, G103 TWIN II, G103A TWIN II ACRO, G103C TWIN III ACRO, and G 103 C Twin III SL gliders. This AD revises AD 2014-15-02, which required inspection of the rudder control unit for installation of plastic cable pulleys and replacement of plastic cable pulleys with aluminum cable pulleys. This AD retains the actions of AD 2014-15-02 but clarifies the suffixes of serial numbers (S/Ns) in paragraph (c) Applicability. This AD was prompted by reports of plastic control cable pulleys developing cracks due to aging, which could lead to breaking of the pulley and potentially jamming the rudder control unit, possibly resulting in loss of control. We are issuing this AD to require actions to address the unsafe condition on these products.

DATES: This final rule is effective October 24, 2014.

The Director of the Federal Register approved the incorporation by reference of certain publications listed in this AD as of August 27, 2014 (79 FR 42658, July 23, 2014).

We must receive comments on this AD by December 8, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Fiberglas-Technik Rudolf Lindner GmbH & Co. KG, Steige 3, D-88487 Walpertshofen, Germany; telephone: +49 (0) 7353/22 43; fax: +49 (0) 7353/30 96; email: info@LTB-Lindner.com; Web site: http://www.ltb-lindner.com/home.104.html. You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0292; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

On July 14, 2014, we issued AD 2014-15-02, Amendment 39-17904 (79 FR 42658, July 23, 2014), for GROB-WERKE GMBH & CO KG Models G102 STANDARD ASTIR III, G102 CLUB ASTIR III, and G102 CLUB ASTIR IIIb gliders and BURKHART GROB LUFT—UND RAUMFAHRT GmbH & CO KG Models G103 TWIN II, G103A TWIN II ACRO, G103C TWIN III ACRO, and G 103 C Twin III SL gliders. That AD required inspection of the rudder control unit for installation of plastic cable pulleys and replacement of plastic cable pulleys with aluminum cable pulleys. That AD resulted from reports of plastic control cable pulleys developing cracks due to aging, which could lead to breaking of the pulley and potentially jamming the rudder control unit, possibly resulting in loss of control. We issued that AD to require actions to address the unsafe condition on these products.

Actions Since AD Was Issued

Since we issued AD 2014-15-02 (79 FR 42658, July 23, 2014), it was determined that to avoid any confusion regarding applicability to a given glider, the AD should be revised to include references to certain suffixes of S/Ns in paragraph (c) Applicability.

Relevant Service Information

We reviewed Fiberglas-Technik Rudolf Lindner GmbH & Co. KG Service Bulletin SB-G05, dated January 17, 2014; and Fiberglas-Technik Rudolf Lindner GmbH & Co. KG Instructions A/I-G05, dated January 17, 2014. The service information describes procedures for inspection of the rudder control unit for installation of plastic cable pulleys and replacement of plastic cable pulleys with aluminum cable pulleys.

FAA's Determination

We are issuing this AD because we evaluated all the relevant information and determined that to avoid any confusion about applicability to a given glider, AD 2014-15-02 (79 FR 42658, July 23, 2014) should be revised to include references to certain suffixes of S/Ns in paragraph (c) Applicability.

AD Requirements

This AD requires accomplishing the actions specified in the service information described previously.

Change to Existing AD

This AD retains all requirements of AD 2014-15-02 (79 FR 42658, July 23, 2014), but revises paragraph (c) Applicability to include references to certain suffixes in referenced S/Ns of gliders.

FAA's Justification and Determination of the Effective Date

An unsafe condition exists that requires the immediate adoption of this AD. We received no comments on the previous AD, and this action only clarifies the applicability to a given glider and does not add any actions that increase the burden over the previous AD. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2014-0292 and directorate identifier 2014-CE-011-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 118 products of U.S. registry. We also estimate that it would take about .5 work-hour per product to comply with the basic requirements of this AD. The average labor rate is $85 per work-hour.

Based on these figures, we estimate the cost of the AD on U.S. operators to be $5,015, or $42.50 per product.

In addition, we estimate that any necessary follow-on actions would take about 2 work-hours and require parts costing $244, for a cost of $414 per product. We have no way of determining the number of products that may need these actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2014-15-02 (79 FR 42658, July 23, 2014) and adding the following new AD:

2014-15-02 R1 Fiberglas-Technik Rudolf Lindner GmbH & Co. KG (type certificates formerly held by GROB-WERKE GMBH & CO KG and BURKHART GROB LUFT-UND RAUMFAHRT GmbH & CO KG): Amendment 39-18001; Docket No. FAA-2014-0292; Directorate Identifier 2014-CE-011-AD.

(a) Effective Date

This AD is effective October 24, 2014.

(b) Affected ADs

This AD revises AD 2014-15-02 (79 FR 42658, July 23, 2014) Amendment 39-17904.

(c) Applicability

This AD applies to the following model and serial number Fiberglas-Technik Rudolf Lindner GmbH & Co. KG (type certificates formerly held by GROB-WERKE GMBH & CO KG and BURKHART GROB LUFT-UND RAUMFAHRT GmbH & CO KG) gliders, certificated in any category.

(1) G102 STANDARD ASTIR III, S/N 5501 through 5652 (Suffix “S”).

(2) G102 CLUB ASTIR III, S/N 5501 through 5652 (Suffix “C”).

(3) G102 CLUB ASTIR IIIb, S/N 5501 through 5652 (Suffix “Cb”).

(4) G103 TWIN II, S/N 3730 through 34078.

(5) G103A TWIN II ACRO, S/N 3730 through 34078 (Suffix “K”).

(6) G103C TWIN III ACRO, S/N 34101 through 34203.

(7) G 103 C Twin III SL, S/N 35002 through 35051.

(d) Subject

Air Transport Association of America (ATA) Code 27: Flight Controls.

(e) Reason

This AD was prompted by mandatory continuing airworthiness information (MCAI) originated by an aviation authority of another country to identify and correct an unsafe condition on an aviation product. The MCAI describes the unsafe condition as plastic control cable pulleys developing cracks due to aging. We are issuing this AD to detect and correct plastic control cable pulleys in the rudder control unit, which could lead to breaking of the pulley and potentially jamming the rudder control unit, possibly resulting in loss of control of the glider.

(f) Actions and Compliance

Comply with this AD within the compliance times specified in paragraphs (f)(1) through (f)(3) of this AD, unless already done.

(1) For all Models G103C TWIN III ACRO and G 103 C Twin III SL gliders: Within 3 months after August 27, 2014 (the effective date retained from AD 2014-15-02, Amendment 39-17904 (79 FR 42658, July 23, 2014)), inspect the rudder control unit for installation of plastic cable pulleys. If plastic cable pulleys are installed, before further flight, replace the plastic cable pulleys with aluminum cable pulleys following the actions and instructions of Fiberglas-Technik Rudolf Lindner GmbH & Co. KG Service Bulletin SB-G05 and Fiberglas-Technik Rudolf Lindner GmbH & Co. KG Instructions A/I-G05, both dated January 17, 2014.

(2) For all Models G102 STANDARD ASTIR III, G102 CLUB ASTIR III, G102 CLUB ASTIR IIIb, G103 TWIN II, and G103A TWIN II ACRO gliders: Within 1 month after August 27, 2014 (the effective date retained from AD 2014-15-02, Amendment 39-17904 (79 FR 42658, July 23, 2014)), inspect the rudder control unit for installation of plastic cable pulleys. If plastic cable pulleys are installed, before further flight, replace the plastic cable pulleys with aluminum cable pulleys following the actions and instructions of Fiberglas-Technik Rudolf Lindner GmbH & Co. KG Service Bulletin SB-G05 and Fiberglas-Technik Rudolf Lindner GmbH & Co. KG Instructions A/I-G05, both dated January 17, 2014.

(3) As of August 27, 2014 (the effective date retained from AD 2014-15-02, Amendment 39-17904 (79 FR 42658, July 23, 2014)), do not install any plastic control cable pulley in the rudder control unit of any glider identified in paragraphs (c)(1) through (c)(7) of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to European Aviation Safety Agency (EASA) AD No.: 2014-0067, dated March 18, 2014, for related information. The MCAI can be found in the AD docket on the Internet at: http://www.regulations.gov/#!documentDetail;D=FAA-2014-0292-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on August 27, 2014 (79 FR 42658, July 23, 2014).

(i) Fiberglas-Technik Rudolf Lindner GmbH & Co. KG Service Bulletin SB-G05, dated January 17, 2014.

(ii) Fiberglas-Technik Rudolf Lindner GmbH & Co. KG Instructions A/I-G05, dated January 17, 2014.

(4) For Fiberglas-Technik Rudolf Lindner GmbH & Co. KG service information identified in this AD, contact Fiberglas-Technik Rudolf Lindner GmbH & Co. KG, Steige 3, D-88487 Walpertshofen, Germany; telephone: +49 (0) 7353/22 43; fax: +49 (0) 7353/30 96; email: info@LTB-Lindner.com; Web site: http://www.ltb-lindner.com/home.104.html.

(5) You may view this service information at the FAA, Small Airplane Directorate, 901 Locust, Kansas City, Missouri 64106. For information on the availability of this material at the FAA, call (816) 329-4148.

(6) You may view this service information that is incorporated by reference at the National Archives and Records Administration (NARA). For information on the availability of this material at NARA, call 202-741-6030, or go to: http://www.archives.gov/federal-register/cfr/ibr-locations.html.

Issued in Kansas City, Missouri, on October 15, 2014.
Derek Morgan,
Acting Manager, Small Airplane Directorate, Aircraft Certification Service.

[FR Doc. 2014-25287 Filed 10-23-14; 8:45 am]

BILLING CODE 4910-13-P